FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202)-523-5793 or tradeanalysis@fmc.gov.

Agreement No.: 201259-001.

Agreement Name: Ocean Network Express Pte. Ltd. (ONE)/Kyowa Shipping Co., Ltd. Slot Charter Agreement.

Parties: Kyowa Shipping Co., Ltd. and Ocean Network Express Pte. Ltd.

Filing Party: Carrol Hand; Ocean Network Express.

Synopsis: The amendment removes the Agreement's expiration date.

Proposed Effective Date: 9/29/2018.

Location: https://www2.fmc.gov/FMC.Agreements.Web/Public/AgreementHistory/13190.

Agreement No.: 201260-001.

Agreement Name: Ocean Network Express Pte. Ltd. (ONE)/NYK Bulk & Projects Carriers Ltd. Slot Charter Agreement.

Parties: NYK Bulk & Project Carriers Ltd. and Ocean Network Express Pte. Ltd.

Filing Party: Carrol Hand; Ocean Network Express.

Synopsis: The amendment removes the Agreement's expiration date.

Proposed Effective Date: 9/29/2018.

Location: https://www2.fmc.gov/FMC.Agreements.Web/Public/AgreementHistory/13191.

Agreement No.: 201265.

Agreement Name: Crowley/Seaboard Costa Rica & Panama Space Charter Agreement.

Parties: Crowley Latin America Services, LLC and Seaboard Marine Ltd.

Filing Party: Wayne Rohde; Cozen O'Connor.

Synopsis: The agreement authorizes Crowley to charter space to Seaboard in the trade between Port Everglades, FL on the one hand and Costa Rica and Panama on the other hand. The parties request expedited review.

Proposed Effective Date: 9/24/2018.

Location: https://www2.fmc.gov/FMC.Agreements.Web/Public/AgreementHistory/15263.

Agreement No.: 201266.

Agreement Name: King Ocean/Seaboard Costa Rica & Panama Space Charter Agreement.

Parties: King Ocean Services Limited, Inc. and Seaboard Marine Ltd.

Filing Party: Wayne Rohde; Cozen O'Connor.

Synopsis: The agreement authorizes King Ocean to charter space to Seaboard in the trade between Port Everglades, FL on the one hand and Costa Rica and Panama on the other hand. The parties request expedited review.

Proposed Effective Date: 9/24/2018.

Location: https://www2.fmc.gov/FMC.Agreements.Web/Public/AgreementHistory/15264.

Dated: August 17, 2018.
Rachel Dickon,
Secretary.

[FR Doc. 2018-18108 Filed 8-21-18; 8:45 am]

BILLING CODE 6731-AA-P